DEPARTMENT OF ENERGY

Federal Energy Regulatory Commission

[Docket No. RP02-87-000]

ANR Pipeline Company; Notice of Tariff Filing

December 6, 2001.

Take notice that on November 30, 2001, ANR Pipeline Company (ANR), tendered for filing as part of its FERC Gas Tariff, Second Revised Volume No. 1, Thirty-Second Revised Sheet No. 17. ANR requests effective date of January 1, 2002.

ANR states that the filing is being made in compliance with the March 10, 1998 Stipulation and Agreement filed in Docket No. RP97-149, et al., and approved by the Commission on April 29, 1998 (the GRI Settlement), Gas Research Institute, 83 FERC ¶ 61,093 (1998), order on reh'g, 83 FERC ¶ 61,331 (1998), and the Commission's Letter Order approving the Gas Research Institute's Year 2002 Research, Development and Demonstration Program and 2001-2005 Five-Year Plan issued on September 19, 2001 in Docket No. RP01-434. ANR further states that the revised tariff sheets revise the Gas Research Institute surcharges for 2002.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30720 Filed 12-11-01; 8:45 am]

BILLING CODE 6717-01-P